DEPARTMENT OF HEALTH AND HUMAN SERVICES

Administration for Community Living

Intent To Award a Single-Source Supplement for the National Center for Benefits Outreach and Enrollment

ACTION: Notice.

The Administration for Community Living (ACL) announces the intent to award a single-source supplemental to the current cooperative agreement held by the National Council on Aging (NCOA) for the National Center for Benefits Outreach and Enrollment (NCBOE). The purpose of the NCBOE is to provide technical assistance to states, area agencies on aging, and service providers to provide outreach and low-income benefits enrollment assistance, particularly to older individuals with greatest economic need for federal and state programs. The administrative supplement for FY 2019 will be for $390,861, bringing the total award for FY 2019 to $11,390,861. With this supplemental funding, NCOA will develop specialized training and tools around integrated care models that can be used by SHIPs, MIPPA grantees, and other partners of ACL like Centers for Independent Living (CILs) and the Aging and Disability Resource Centers (ADRCs) to expand the NCBOE's outreach and education efforts targeting older adults with the greatest economic need. This includes reaching out to current MIPPA grantees to evaluate their needs and to determine what the grantees believe would be helpful and conducting other stakeholder group meeting(s) to discuss what should be created around these integrated care models. Stakeholders could include MIPPA and other ACL grantees, health plans, CMS, and other non-federal partners. Additionally, NCOA will continue, expand, and complete the work they are currently undertaking with the NCBOE award without disrupting services.

Program Name: The National Center for Benefits Outreach and Enrollment (NCBOE).

Recipient: National Council on Aging (NCOA).

Period of Performance: The award will be issued for the current project period of September 30, 2017 through September 29, 2020.

Total Award Amount: $11,390,861 in FY 2019.

Award Type: Cooperative Agreement Supplement.

Statutory Authority: The Medicare Improvements for Patients and Providers Act of 2008—Section 119, Public Law (Pub. L.) 110-275 as amended by the Patient Protection and Affordable Care Act of 2010 (Affordable Care Act), reauthorized by the American Taxpayer Relief Act of 2012 (ATRA) and reauthorized by section 110 of the Protecting Access to Medicare Act of 2014.

Basis for Award: The National Council on Aging (NCOA) is currently funded to carry out the NCBOE Project for the period of September 30, 2017 through September 29, 2020. Much work has already been completed and further tasks are currently being accomplished. It would be unnecessarily time consuming and disruptive to the NCBOE project and the beneficiaries being served for the ACL to establish a new grantee at this time when critical services are presently being provided in an efficient manner.

The NCOA is uniquely placed to complete the work under the NCBOE grant. Since 2001, the NCOA has been the national leader in improving benefits access to vulnerable older adults. They have an unparalleled history of working with community based organizations to develop and replicate outreach and enrollment solutions, while maintaining and enhancing technology to make it easier and more efficient to find benefits. The NCOA through NCBOE accomplishes its mission by developing and sharing tools, resources, best practices, and strategies for benefits outreach and enrollment via its online clearinghouse, electronic and print publications, webinars, and training and technical assistance.

In addition, the NCOA has the BenefitsCheckUp which is, by far, the nation's most comprehensive and widely-used web-based service that screens older and disabled adults with limited incomes and resources and informs them about public and private benefits for which they are very likely to be eligible. Since the BenefitsCheckUp was launched in 2001, over 7.6 million individuals have been assisted to identify over $29.6 billion in potential annual benefits. In addition to a focus on Low-Income Subsidy and Medicare Savings Programs, the BenefitsCheckUp also includes more than 2,500 benefits programs from all 50 states and DC, including the addition of Medicaid expansion programs as part of Affordable Care Act; over 50,000 local offices for people to apply for benefits; nearly 2,000 application forms in every language in which they are available; and user-friendly mapping tools that allow streamlined access to program fact sheets and application forms based upon a person's locality.

NCOA is successfully meeting all programmatic goals under the current NCBOE grant.

For Further Information Contact: For further information or comments regarding this program supplement, contact Rebecca Kinney, U.S. Department of Health and Human Services, Administration for Community Living, Center for Integrated Programs, Office of Healthcare Information and Counseling; telephone (202) 795-7375; email Rebecca.Kinney@acl.hhs.gov

Dated: June 24, 2019.
Mary Lazare,
Principal Deputy Administrator.

[FR Doc. 2019-13962 Filed 6-28-19; 8:45 am]

BILLING CODE 4154-01-P